DEPARTMENT OF THE INTERIOR

National Park Service

[NPS-WASO-NAGPRA-NPS0026786; PPWOCRADN0-PCU00RP14.R50000]

Notice of Inventory Completion: U.S. Department of the Interior, Bureau of Land Management, Utah State Office, Salt Lake City, UT, and Southern Utah University, Cedar City, UT; Correction

AGENCY: National Park Service, Interior.

ACTION: Notice; correction.

SUMMARY: The U.S. Department of the Interior, Bureau of Land Management, Utah State Office has corrected an inventory of human remains and associated funerary objects, published in a Notice of Inventory Completion in the Federal Register on October 12, 2004. This notice corrects the minimum number of individuals. Lineal descendants or representatives of any Indian Tribe or Native Hawaiian organization not identified in this notice that wish to request transfer of control of these human remains and associated funerary objects should submit a written request to the Bureau of Land Management, Utah State Office. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Bureau of Land Management, Utah State Office at the address in this notice by December 19, 2018.

ADDRESSES: Diana Barg, Museum Collections Manager, Bureau of Land Management, 440 W 200 S Suite 500, Salt Lake City, UT 84101, telephone (801) 539-4214, email dbarg@blm.gov.

SUPPLEMENTARY INFORMATION: Notice is here given in accordance with the Native American Graves Protection and Repatriation Act (NAGPRA), 25 U.S.C. 3003, of the correction of an inventory of human remains and associated funerary objects under the control of the U.S. Department of the Interior, Bureau of Land Management, Utah State Office, Salt Lake City, UT. The human remains and associated funerary objects were removed from multiple locations in Washington and Kane Counties, UT.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals published in a Notice of Inventory Completion in the Federal Register (69 FR 60664-60666, October 12, 2004). Osteological analysis conducted after the original publication of the Federal Register Notice in 2004 found that two individuals originally reported on the notice were representative of four individuals. Additionally, one individual that was reported on the original publication of the Federal Register Notice was later determined to have been left in situ at the time of excavation and, therefore, should not have been included in the original NAGPRA inventory nor reported on the initial notice. Transfer of control of the items in this correction notice has not occurred.

Correction

In the Federal Register (69 FR 60665, October 12, 2004), column 1, paragraph 2 is corrected by deleting the following paragraph:

In 1983, human remains representing a minimum of one individual were removed from site 42Ws392 during legally authorized data recovery efforts as part of the Quail Creek Mitigation Project, Washington County, UT. No known individual was identified. No associated funerary objects are present.

In the Federal Register (69 FR 60665, October 12, 2004), column 1, paragraph 3 is corrected by deleting the following paragraph:

Based on ceramic and architectural styles, site organization, and other archeological information, site 42Ws392 has been identified as a multicomponent Pueblo I and late Pueblo II period occupation site. The site has been assigned to the archeologically defined culture known as Virgin Anasazi, a specific regional manifestation of Puebloan culture.

In the Federal Register (69 FR 60665, October 12, 2004), column 2, paragraph 4, sentence 1 is corrected by substituting the following sentence:

In 1979, human remains representing a minimum of four individuals were removed from site 42Ws969 Washington County, UT, during legally authorized excavations undertaken by the Southern Utah University Field School.

In the Federal Register (69 FR 60665, October 12, 2004), column 3, paragraph 6, sentence 1 is corrected by substituting the following sentence:

Officials of the U.S. Department of the Interior, Bureau of Land Management, Utah State Office have determined that, pursuant to 25 U.S.C. 3001 (9-10), the human remains described above represent the physical remains of 12 individuals of Native American ancestry.

Additional Requestors and Disposition

Lineal descendants or representatives of any Indian Tribe or Native Hawaiian organization not identified in this notice that wish to request transfer of control of these human remains and associated funerary objects should submit a written request with information in support of the request to Diana Barg, Museum Collections Manager, Bureau of Land Management, 440 W 200 S Suite 500, Salt Lake City, UT 84101, telephone (801) 539-4214, email dbarg@blm.gov, by December 19, 2018. After that date, if no additional requestors have come forward, transfer of control of the human remains and associated funerary objects to the Hopi Tribe of Arizona may proceed.

The Bureau of Land Management, Utah State Office is responsible for notifying the Hopi Tribe of Arizona that this notice has been published.

Dated: October 12, 2018.
Melanie O'Brien,
Manager, National NAGPRA Program.

[FR Doc. 2018-25125 Filed 11-16-18; 8:45 am]

BILLING CODE 4312-52-P